DEPARTMENT OF TRANSPORTATION

Federal Railroad Administration

[Docket Number FRA-2011-0052]

Petition for Waiver of Compliance

In accordance with Part 211 of Title 49 of the Code of Federal Regulations (CFR), this document provides the public notice that by a document dated August 25, 2011, Norfolk Southern Railway (NS) has submitted information to amend and clarify the scope of a June 14, 2011, petition to the Federal Railroad Administration (FRA) for a waiver of compliance from certain provisions of the Federal railroad safety regulations contained at 49 CFR part 236. FRA had assigned the petition Docket Number FRA-2011-0052 as published in Federal Register (Ref. Volume 76, No. 135, Thursday, July 14, 2011, Page 41556).

NS seeks a waiver of compliance from the cab signal system requirements found in 49 CFR 236.566, Locomotive of each train operating in train stop, train control, or cab signal territory; equipped. Specifically, NS seeks relief to operate nonequipped engines used in switching and transfer service, with or without cars such as work trains, wreck trains, ballast cleaners to and from work, and engines and rail diesel cars moving to and from shops, in the following locations with all movements at restricted speeds not exceeding 15 mph.

1. Operations on the Pittsburgh Line, Harrisburg Division, from CP Cannon at MP-PT 118.9 near Duncannon, PA, to CP Harrisburg at MP-PT 105.1 near Harrisburg, PA.

2. Operations on the Pittsburgh Line, Pittsburgh Division, from CP Cannon at MP-PT 118.9 near Duncannon, PA, to CP Solomon at MP-PT 352.5 near Pittsburgh, PA, with an absolute block to be established in advance of each movement of foreign trains and engines between CP Bloom at MP-PT 351.6 near Pittsburgh, PA, and CP Solomon.

3. Operations on the Fort Wayne Line, Pittsburgh Division, from CP Rochester at MP-PC 29.5, near East Rochester, PA, to CP Alliance at MP-PC 83.2., with an absolute block to be established in advance of each nonequipped movement.

4. Operations on the Conemaugh Line, Pittsburgh Division, from CP Conpit at MP-LC 0.0, near Bolivar, PA, to CP Kiski at MP-LC 47.8, near Freeport, PA, with an absolute block to be established in advance of each nonequipped movement.

NS argues that relief is in the public interest. The waiver of 49 CFR 236.566 requirements in these areas is important to maintaining efficient rail operations in the region. Exemptions have been previously granted for the operation of nonequipped locomotives in cab signal system territory at nearby locations and the relief requested in this application is a consistent extension of those currently granted exceptions.

A copy of the petition, as well as any written communications concerning the petition, is available for review online at http://www.regulations.gov and in person at the U.S. Department of Transportation's Docket Operations Facility, 1200 New Jersey Ave., SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received by October 31, 2011, will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on September 13, 2011.
Robert C. Lauby,
Deputy Associate Administrator for Regulatory and Legislative Operations.

[FR Doc. 2011-23840 Filed 9-15-11; 8:45 am]

BILLING CODE 4910-06-P